ENVIRONMENTAL PROTECTION AGENCY

40 CFR Part 52

[EPA-R10-OAR-2023-0348; FRL-11133-02-R10]

Air Plan Approval; AK; Regional Haze State Implementation Plan for the Second Implementation Period

AGENCY: Environmental Protection Agency (EPA).

ACTION: Final rule.

SUMMARY: The Environmental Protection Agency (EPA) is approving the Alaska regional haze plan for the second implementation period. Alaska submitted the plan to address applicable requirements under the Clean Air Act and the EPA's Regional Haze Rule.

DATES: This final rule is effective April 2, 2026.

ADDRESSES: The EPA has established a docket for this action under Docket ID No. EPA-R10-OAR-2023-0348. All documents in the docket are listed on the https://www.regulations.gov website. Although listed in the index, some information is not publicly available, e.g., Confidential Business Information or other information, the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Kristin Hall, EPA Region 10, 1200 Sixth Avenue, Suite 155, Seattle, WA 98101, at (206) 553-6357 or hall.kristin@epa.gov.

SUPPLEMENTARY INFORMATION: Throughout this document, wherever “we” or “our” is used, it means “the EPA.”

Table of Contents

I. Background

II. Public Comments and EPA Responses

III. Final Action

IV. Incorporation by Reference

V. Statutory and Executive Order Reviews

I. Background

In 1977, Congress established the national goal of preventing any future and remedying any existing impairment of visibility in mandatory Class I Federal areas that results from manmade (anthropogenic) air pollution.¹ The Regional Haze Rule lays out the steps for States to develop and implement plans to address this national visibility goal.² States work in coordination with the EPA, the Federal Land Managers, and other interested parties, through an iterative process and series of implementation periods.

¹ Clean Air Act section 169A(a)(1).

² 40 CFR 51.308.

On July 25, 2022, the Alaska Department of Environmental Conservation (DEC) submitted a regional haze State Implementation Plan revision (2022 regional haze SIP submission) to address the Regional Haze Rule requirements for the second implementation period (2018 through 2028). On December 4, 2024, the Alaska DEC updated specific analyses relied on in the 2022 regional haze SIP submission, and on October 6, 2025, the Alaska DEC clarified certain aspects of the submission.

The EPA proposed to approve Alaska's 2022 regional haze SIP submission for the second implementation period on October 30, 2025 (90 FR 48855). Specifically, the EPA proposed to approve the submission as meeting the requirements of 40 CFR 51.308(f)(1) through (6), (g)(1) through (5), and (i). In addition, as requested by the Alaska DEC, the EPA proposed to approve, and incorporate by reference into the Alaska SIP at 40 CFR 52.70(c), two new regulatory provisions of Alaska Administrative Code Title 18 Environmental Conservation, Chapter 50 Air Quality Control (18 AAC 50), specifically, 18 AAC 50.025 and 18 AAC 50.265, State effective August 21, 2022. We note that we extended the comment period an additional 15 days to allow interested parties more time to develop and submit comments (90 FR 52308, November 20, 2025).

Our proposed action provided background on the requirements of the Clean Air Act and Regional Haze Rule, a summary of Alaska's 2022 regional haze SIP submission and the rationale for the EPA's proposed action. That background and rationale will not be restated here.

II. Public Comments and EPA Responses

We received public comments from the following groups and individuals:

• National Parks Conservation Association, Coalition to Protect America's Parks, and Sierra Club;

• Elayna Bassuk;

• Citizen's Rulemaking Alliance;

• Alaska DEC;

• Delaney Barrett;

• Mid-Atlantic/Northeast Visibility Union; and

• Anonymous commenter.

The full text of all comments received may be found in the docket for this action at https://www.regulations.gov/docket/EPA-R10-OAR-2023-0348. The EPA's responses to all significant adverse comments received are presented in the EPA's response to comments document, file 211_EPA_Response_to_Comments_February_2026, which may be found in the docket for this action at https://www.regulations.gov/docket/EPA-R10-OAR-2023-0348.

III. Final Action

For the reasons stated in the proposed action, in the response to comments document, and in this preamble, the EPA is approving Alaska's 2022 regional haze SIP submission for the second implementation period as meeting the following requirements:

• 40 CFR 51.308(f)(1)—calculation of baseline, current, and natural visibility conditions; progress to date; and the uniform rate of progress;

• 40 CFR 51.308(f)(2)—long-term strategy requirements;

• 40 CFR 51.308(f)(3)—reasonable progress goal requirements;

• 40 CFR 51.308(f)(4)—additional monitoring needed to address reasonably attributable visibility impairment;

• 40 CFR 51.308(f)(5)—progress report requirements;

• 40 CFR 51.308(f)(6)—monitoring strategy and other plan requirements;

• 40 CFR 51.308(g)(1) through (5)—progress report requirements; and

• 40 CFR 51.308(i)—State and Federal Land Manager coordination requirements.

The EPA is also approving, and incorporating by reference into the Alaska SIP at 40 CFR 52.70(c), the following submitted regulations:

• 18 AAC 50.025 Visibility and other special protection areas (defining the geographic scope of the regional haze visibility protection area), State effective August 21, 2022; and

• 18 AAC 50.265 Additional requirements for construction or operation of title V permitted sources and operation of minor stationary sources within the regional haze special protection area (requiring fuel-burning and industrial sources located in the visibility protection area to save maintenance records, submit emissions data to the State for purposes of the national emissions inventory, and in each permit application, provide an assessment of whether proposed emissions increases may impact the State's reasonable further progress goals), State effective August 21, 2022.

The EPA is taking this action pursuant to Clean Air Act sections 110 and 169A.

IV. Incorporation by Reference

In this document, the EPA is finalizing regulatory text that includes incorporation by reference. In accordance with requirements of 1 CFR 51.5, the EPA is finalizing the incorporation by reference of the regulatory provisions described in section III. of this preamble. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally enforceable under sections 110 and 113 of the Clean Air Act as of the effective date of the final rule of the EPA's approval, and will be incorporated by reference in the next update to the SIP compilation.³

³ 62 FR 27968 (May 22, 1997).

V. Statutory and Executive Order Reviews

Under the Clean Air Act, the Administrator is required to approve a SIP revision that complies with the provisions of the Clean Air Act and applicable Federal regulations. 42 U.S.C. 7410(k); 40 CFR 52.02(a). Thus, in reviewing SIP revisions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, this action is not approved to apply on any Indian reservation land or in any other area where the EPA or an Indian Tribe has demonstrated that a Tribe has jurisdiction. In those areas of Indian country, the rule does not have Tribal implications and will not impose substantial direct costs on Tribal Governments or preempt Tribal law as specified by Executive Order 13175 (65 FR 67249, November 9, 2000). Consistent with EPA policy, the EPA contacted 24 Tribes located near Alaska Class I areas and offered an opportunity to consult on a government-to-government basis in letters dated January 31, 2023. We received no consultation or coordination requests. The letters may be found in the docket for this action.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by May 4, 2026. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 17, 2026.
Daniel Opalski,
Acting Regional Administrator, Region 10.

For the reasons set forth in the preamble, the EPA amends 40 CFR part 52 as follows:

PART 52—APPROVAL AND PROMULGATION OF IMPLEMENTATION PLANS

1. The authority citation for part 52 continues to read as follows:

Authority: 42 U.S.C. 7401 et seq.

Subpart C—Alaska

2. Section 52.70 is amended by:

a. In table 1 to paragraph (c) by:

i. Revising the entry “18 AAC 50.025”; and

ii. Adding under the table heading “18 AAC 50—Article 2. Program Administration”, the entry for “18 AAC 50.265” immediately after the entry for “18 AAC 50.260”; and

b. In table 5 to paragraph (e) by revising the entries for “II.III.K. Area Wide Pollutant Control Program for Regional Haze” and “III.III.K. Area Wide Pollutant Control Program for Regional Haze”.

The revisions and additions read as follows:

§ 52.70 Identification of plan.

* * * * *

(c) * * *

Table 1 to Paragraph (c)—EPA-Approved Alaska Regulations
State citation | Title/subject | State effective date | EPA approval date | Explanations
Alaska Administrative Code Title 18 Environmental Conservation, Chapter 50—Air Quality Control (18 AAC 50)
18 AAC 50—Article 1. Ambient Air Quality Management
* * * * * * *
18 AAC 50.025 | Visibility and other special protection areas | 8/21/2022 | 3/3/2026, 91 FR [INSERT FEDERAL REGISTER PAGE WHERE THE DOCUMENT BEGINS]
* * * * * * *
18 AAC 50—Article 2. Program Administration
* * * * * * *
18 AAC 50.265 | Additional requirements for construction or operation of Title V permitted sources and operation of minor stationary sources within the regional haze special protection area | 8/21/2022 | 3/3/2026, 91 FR [INSERT FEDERAL REGISTER PAGE WHERE THE DOCUMENT BEGINS]
* * * * * * *

* * * * *

(e) * * *

Table 5 to Paragraph (e)—EPA-Approved Alaska Nonregulatory Provisions and Quasi-Regulatory Measures
Name of SIP provision | Applicable geographic or nonattainment area | State submittal date | EPA approval date | Explanations
State of Alaska Air Quality Control Plan: Volume II. Analysis of Problems, Control Actions
* * * * * * *
Section III. Areawide Pollutant Control Program
* * * * * * *
II.III.K. Area Wide Pollutant Control Program for Regional Haze | Statewide | 4/4/2011, 3/10/2016, 7/25/2022 | 2/14/2013, 78 FR 10546; 4/12/2018, 83 FR 15746; 3/3/2026, 91 FR [INSERT FEDERAL REGISTER PAGE WHERE THE DOCUMENT BEGINS] | Approvals: first implementation period; first progress report; and second implementation period.
* * * * * * *
State of Alaska Air Quality Control Plan: Volume III. Appendices
* * * * * * *
Section III. Area Wide Pollutant Control Program
* * * * * * *
III.III.K. Area Wide Pollutant Control Program for Regional Haze | Statewide | 4/4/2011; 7/25/2022 | 2/14/2013, 78 FR 10546; 3/3/2026, 91 FR [INSERT FEDERAL REGISTER PAGE WHERE THE DOCUMENT BEGINS] | Approvals: first implementation period; and second implementation period.
* * * * * * *

[FR Doc. 2026-04159 Filed 3-2-26; 8:45 am]

BILLING CODE 6560-50-P